DEPARTMENT OF AGRICULTURE

Forest Service

Final Record of Decision for the Helena-Lewis and Clark National Forest Land Management Plan

AGENCY: Forest Service, USDA.

ACTION: Notice of plan approval for the Helena-Lewis and Clark National Forest.

SUMMARY: William Avey, the Forest Supervisor for the Helena-Lewis and Clark National Forest (referred to as the Forest), Northern Region, signed the record of decision (ROD) for the Helena-Lewis and Clark National Forest Land Management Plan (Forest Plan). The final ROD documents the rationale for approving the Land Management Plan and is consistent with the reviewing officer's responses to objections and instructions.

DATES: The revised Land Management Plan for the Helena-Lewis and Clark National Forest will become effective 30 days after the publication of this notice of approval in the Federal Register.

ADDRESSES: To view the final ROD, final environmental impact statement (FEIS), Land Management Plan, and other related documents, please visit the Helena-Lewis and Clark National Forest Plan Revision website at: www.fs.usda.gov/goto/hlc/forestplanrevision. A legal notice of approval is also being published in the Helena-Lewis and Clark National Forest's newspaper of record, Helena Independent Record. A copy of this legal notice will be posted on the website listed above.

FOR FURTHER INFORMATION CONTACT: Deborah Entwistle, weekdays, 8:30 a.m. to 3:00 p.m. Mountain Daylight Time, at 406-449-5201. Written requests for information may be sent to Helena-Lewis and Clark National Forest, Attn: Plan Revision, 2880 Skyway Drive, Helena, MT 59601.

Individuals who use telecommunication devices for the hearing-impaired (TDD) may call the Federal Information Relay Service (FIRS) at 1-800-877-8339 between 8 a.m. and 8 p.m., Eastern Daylight Time, Monday through Friday.

SUPPLEMENTARY INFORMATION: The Land Management Plan describes the Helena-Lewis and Clark National Forest's distinctive roles and contributions within the broader landscape and details forest wide and geographic area desired conditions, objectives, standards, and guidelines. It identifies suitable uses of National Forest System lands and provides estimates of the planned timber sale quantity. The Land Management Plan identifies priority watersheds for restoration and includes recommended wilderness areas and eligible wild and scenic rivers. This Land Management Plan provides for efficient and effective management of the Helena-Lewis and Clark National Forest with desired conditions for coordination, partnerships, and shared stewardship with State, local, and Tribal governments, other federal agencies, adjacent landowners, and stakeholders. The development of the Land Management Plan was shaped by the best available scientific information, current laws, and public input.

The Helena-Lewis and Clark National Forest initiated plan revision in spring 2014 with open houses held at multiple locations across the planning area. The Forest invited State, local and Tribal governments, and other federal agencies from around the region to participate in the process to revise the Land Management Plan. An interagency working group met regularly throughout the plan revision effort. After two years of public engagement, the Forest released the Proposed Action in December 2016. Comments received on the Proposed Action were used in development of the draft Land Management Plan and draft EIS which were released in June 2018. The Forest received over 1,000 public comments on the draft Land Management Plan. The Land Management Plan, final EIS, and draft Record of Decision were released in May 2020, initiating a 60-day opportunity to object. The Forest Service received 88 eligible objections. The Regional Forester, Reviewing Official, issued a written response to the objection issues on February 19, 2021. The final ROD documents the rationale for approving the Land Management Plan and is consistent with the Reviewing Officer's response to objections and instructions.

Responsible Official

The Responsible Official for approving the Land Management Plan is William Avey, Forest Supervisor, Helena-Lewis and Clark National Forest.

Dated: June 7, 2021.
Barnie Gyant,
Associate Deputy Chief, National Forest System.

Editorial note: This document was received for publication by the Office of the Federal Register on October 26, 2021.

[FR Doc. 2021-23607 Filed 10-28-21; 8:45 am]

BILLING CODE 3411-15-P